DEPARTMENT OF JUSTICE

Bureau of Alcohol, Tobacco, Firearms and Explosives

[Docket No. ATF 13N; ATF O 1157.1]

Delegation Order—Authority To Approve ATF F 1345.4, Request and Nondisclosure Agreement

1. Purpose. This order delegates the authority to approve ATF F 1345.4, Request and Nondisclosure Agreement, for current, departing, and former employees who are removing or accessing Bureau documents.

2. Discussion. Department of Justice Order 2710.8C, Removal and Maintenance of, and Access to, Documents, dated November 7, 2000, establishes policy and procedures on removal from Department of Justice custody, and requests for maintenance of or access to documentary materials, by current, departing, and former employees. It establishes the responsibilities of Bureau heads with regard to such materials and gives them authority to redelegate their responsibilities.

3. Cancellation. ATF O 1100.162, Delegation Order—Authority to Approve TD F 80-05.5, Documentary Materials Removal/Nonremoval Certification, dated 06/30/93, is canceled.

4. Reference. ATF O 1345.3A, Removal, Maintenance of, and Access to ATF Documents.

5. Delegation. Pursuant to responsibilities referenced in paragraph 2, I hereby delegate the following as approving officials with authority to approve ATF F 1345.4:

a. Deputy Director.

b. Ombudsman.

c. Chief, Strategic Planning.

d. Executive assistants.

e. Deputy Executive Assistant (Equal Opportunity).

f. Assistant directors.

g. Deputy assistant directors.

h. Chief Counsel.

i. Deputy Chief Counsel.

j. Assistant chief counsel(s).

k. Associate chief counsel(s).

l. Deputy associate chief counsel(s).

m. Division counsel(s).

n. Headquarters staff, division, deputy division, branch and section chiefs.

o. Director, Laboratory Services.

p. Chief(s), laboratories.

q. Director, New Building Projects Office.

r. Chair, Professional Review Board.

s. Chair, Merit Promotion Board.

t. Chief, Recruitment Center and Hiring Center.

u. Regional audit managers.

v. Special agents in charge.

w. Assistant special agents in charge.

x. Resident agents in charge.

y. Directors of industry operations.

z. Area supervisors.

aa. Group supervisors.

6. Redelegation. This authority may not be redelegated.

7. Questions. Contact the Document Services Branch at 202-927-8930 if there are questions.

Date Signed: September 14, 2004.
Carl J. Truscott,
Director.

[FR Doc. 04-21335 Filed 9-22-04; 8:45 am]

BILLING CODE 4410-FY-P